DEPARTMENT OF ENERGY

Federal Energy Regulatory Commission

[Docket No. CP01-395-000]

Columbia Gas Transmission Corporation; Notice of Request Under Blanket Authorization

June 29, 2001.

Take notice that on June 21, 2001, Columbia Gas Transmission Corporation (Columbia), 12801 Fair Lakes Parkway, Fairfax, Virginia 22030-0146, filed in Docket No. CP01-395-000 a request pursuant to Sections 157.205 and 157.216 of the Commission's Regulations under the Natural Gas Act (18 CFR 157.205, 157.216) for authorization to abandon a delivery point in Loudoun County, Virginia, under Columbia's blanket certificate issued in Docket No. CP83-76-000, pursuant to Section 7 of the Natural Gas Act, all as more fully set forth in the request that is on file with the Commission and open to public inspection. This filing may be viewed on the web at http://www.ferc.gov using the “RIMS” link, select “Docket#” from the RIMS Menu and follow the instructions (please call (202)208-2222 for assistance).

Columbia states that Washington Gas Light (WGL) notified Columbia by letter dated January 17, 2001 of its intent to abandon its point of delivery from Columbia designated as Preferred Plastics. Columbia also states that the point of delivery proposed for abandonment has not been utilized since 1997, but is listed on WGL's Storage Service Transportation (SST) agreement with Columbia. Columbia further states that the abandonment activities will consist of removing the station in its entirety and capping the tap.

Any questions regarding the application may be directed to Fredric J. George, Attorney, Columbia Gas Transmission Corporation, P.O. Box 1273, Charleston, West Virginia 25325-1273, or telephone (304)357-2359 or FAX (304)357-3206.

Any person or the Commission's staff may, within 45 days after issuance of the instant notice by the Commission, file pursuant to Rule 214 of the Commission's Procedural Rules (18 CFR 385.214) a motion to intervene or notice of intervention and pursuant to Section 157.205 of the Regulations under the Natural Gas Act (18 CFR 157.205) a protest to the request. If no protest is filed within the time allowed therefor, the proposed activity shall be deemed to be authorized effective the day after the time allowed for filing a protest. If a protest is filed and not withdrawn within 30 days after the time allowed for filing a protest, the instant request shall be treated as an application for authorization pursuant to Section 7 of the Natural Gas Act. Comments, protests and interventions may be filed electronically via the Internet in lieu of paper. See, 18 CFR 385.2001(a)(1)(iii) and the instructions on the Commission's web site at http://www.ferc.gov under the link to the User's Guide. If you have not yet established an account, you will need to create a new account by clicking on “Login to File” and then “New User Account.”

David P. Boergers,
Secretary.

[FR Doc. 01-16896 Filed 7-5-01; 8:45 am]

BILLING CODE 6717-01-M